DEPARTMENT OF DEFENSE

Department of the Navy

[Docket ID: USN-2010-0028]

Privacy Act of 1974; System of Records

AGENCY: Department of the Navy, DoD.

ACTION: Notice to amend a system of records.

SUMMARY: The Department of the Navy proposes to amend a system of records in its inventory of record systems subject to the Privacy Act of 1974 (5 U.S.C. 552a), as amended.

DATES: The changes will be effective on August 25, 2010, unless comments are received that would result in a contrary determination.

ADDRESSES: You may submit comments, identified by docket number and title, by any of the following methods:

• Federal Rulemaking Portal: http://www.regulations.gov. Follow the instructions for submitting comments.

• Mail: Federal Docket Management System Office, Room 3C843 Pentagon, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mrs. Miriam Brown-Lam (202) 685-6545.

SUPPLEMENTARY INFORMATION: The Department of the Navy systems of records notices subject to the Privacy Act of 1974, (5 U.S.C. 552a), as amended, have been published in the Federal Register and are available from Mrs. Miriam Brown-Lam, HEAD, FOIA/Privacy Act Policy Branch, the Department of the Navy, 2000 Navy Pentagon, Washington, DC 20350-2000.

The specific changes to the records system being amended are set forth below followed by the notice, as amended, published in its entirety. The proposed amendment is not within the purview of subsection (r) of the Privacy Act of 1974 (5 U.S.C. 552a), as amended, which requires the submission of new or altered systems reports.

Dated: July 21, 2010.
Mitchell S. Bryman,
Alternate OSD Federal Register Liaison Officer, Department of Defense.

N01301-2

System name:

On-Line Distribution Information System (ODIS) (July 23, 2007; 72 FR 40125).

Changes:

* * * * *

System location:

Delete entry and replace with “Defense Information Systems Agency (DISA)—Defense Enterprise Computing Center Mechanicsburg, 5450 Carlisle Pike, Mechanicsburg, PA 17050-0975.”

* * * * *

Authority for maintenance of the system:

Delete entry and replace with “5 U.S.C. 301, Department Regulations; 10 U.S.C. 620, Active-duty lists; 10 U.S.C. 617, Reports of selection boards; and E.0. 9397 (SSN), as amended.”

* * * * *

Notification procedure:

Delete entry and replace with “Individuals seeking to determine whether information about themselves is contained in this system should address written inquiries to the Commander, Navy Personnel Command (PERS-OOJ), 5720 Integrity Drive, Millington, TN 38055-0000.

Requests should contain full name, rank, Social Security Number (SSN), designator, address and signature. The system manager may require an original signature or a notarized signature as a means of proving the identity of the individual requesting access to the records.

The individual may visit the Navy Personnel Command (PERS-OOJ), 5720 Integrity Drive, Millington, TN 38055-0000. Advance notification is required for personal visits. Proof identification will consist of military identification card.”

Record access procedures:

Delete entry and replace with “Individuals seeking access to information about themselves contained in this system should address written inquiries to the Commander, Navy Personnel Command (PERS-OOJ), 5720 Integrity Drive, Millington, TN 38055-0000.

Requests should contain full name, rank, Social Security Number (SSN), designator, address and signature. The system manager may require an original signature or a notarized signature as a means of proving the identity of the individual requesting access to the records.

The individual may visit the Commander, Navy Personnel Command (PERS-OOJ), 5720 Integrity Drive, Millington, TN 38055-0000. Advance notification is required for personal visits. Proof of identification will consist of military identification card.”

* * * * *

N01301-2

System name:

On-Line Distribution Information System (ODIS).

System location:

Defense Information Systems Agency (DISA)—Defense Enterprise Computing Center Mechanicsburg, 5450 Carlisle Pike, Mechanicsburg, PA 17050-0975.

Categories of individuals covered by the system:

All Navy personnel on active duty including reservists on active duty more than 60 days.

Categories of records in the system:

Personnel records in automated form concerning qualifications, assignment, placement, career development, education, training, recall, release from active duty, advancement, performance, retention, reenlistment, separation, morale, personal affairs, benefits, entitlements, and administration.

Authority for maintenance of the system:

5 U.S.C. 301, Department Regulations; 10 U.S.C. 620, Active-duty lists; 10 U.S.C. 617, Reports of selection boards; and E.0. 9397 (SSN), as amended.

Purpose(s):

To assist Navy officials and employees in the classification, qualification determinations, assignment, placement, career development, education, training, recall and release of officer personnel pursuant to meet manpower allocations and requirements.

Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows:

The DoD ‘Blanket Routine Uses’ that appear at the beginning of the Navy's compilation of systems of records notices apply to this system.

Policies and practices for storing, retrieving, accessing, retaining, and disposing of records in the system:

Storage:

Paper records in file folders and electronic storage media.

Retrievability:

Records may be retrieved by Social Security Number (SSN) and/or name.

Safeguards:

Computer terminals are located in restricted areas accessible only to authorized persons that are properly screened, cleared and trained. Manual records and computer printouts are available only to authorized personnel having an official need-to-know.

Retention and disposal:

Records are generally maintained until superseded, or for a period of 2 years or until release from active duty and disposed of by burning or shredding.

System manager(s) and address:

Commander, Navy Personnel Command (PERS-455), 5720 Integrity Drive, Millington, TN 38055-0455.

Notification procedure:

Individuals seeking to determine whether information about themselves is contained in this system should address written inquiries to the Commander, Navy Personnel Command (PERS-OOJ), 5720 Integrity Drive, Millington, TN 38055-0000.

Requests should contain full name, rank, Social Security Number (SSN), designator, address and signature. The system manager may require an original signature or a notarized signature as a means of proving the identity of the individual requesting access to the records.

The individual may visit the Navy Personnel Command (PERS-OOJ), 5720 Integrity Drive, Millington, TN 38055-0000. Advance notification is required for personal visits. Proof identification will consist of military identification card.

Record access procedures:

Individuals seeking access to information about themselves contained in this system should address written inquiries to the Commander, Navy Personnel Command (PERS-OOJ), 5720 Integrity Drive, Millington, TN 38055-0000.

Requests should contain full name, rank, Social Security Number (SSN), designator, address and signature. The system manager may require an original signature or a notarized signature as a means of proving the identity of the individual requesting access to the records.

The individual may visit the Commander, Navy Personnel Command (PERS-OOJ), 5720 Integrity Drive, Millington, TN 38055-0000. Advance notification is required for personal visits. Proof of identification will consist of military identification card.

Contesting record procedures:

The Navy's rules for accessing records, and for contesting contents and appealing initial agency determinations are published in Secretary of the Navy Instruction 5211.5; 32 CFR part 701; or may be obtained from the system manager.

Record source categories:

Personnel Service Jackets; records of the officer promotion system; officials and employees of the Department of the Navy, Department of Defense, and components thereof, in performance of their official duties and as specified by current instructions and regulations promulgated by competent authority; education institutions; official records of professional qualifications; general correspondence concerning the individual.

Exemptions claimed for the system:

None.

[FR Doc. 2010-18251 Filed 7-23-10; 8:45 am]

BILLING CODE 5001-06-P